DEPARTMENT OF TRANSPORTATION

Federal Motor Carrier Safety Administration

[Docket No. FMCSA-2022-0122]

Entry-Level Driver Training: Application for Exemption; State of Alaska

AGENCY: Federal Motor Carrier Safety Administration (FMCSA), Department of Transportation (DOT).

ACTION: Notice of application for renewal of exemption; request for comments.

SUMMARY: FMCSA announces that it has received an application from the State of Alaska for a renewal of its exemption from the limitations imposed by the commercial driver's license (CDL) regulations on the State's ability to issue restricted CDLs. The exemption renewal would allow the State to waive specified portions of the CDL skills test for drivers who reside and operate in 14 defined geographic areas that lack the infrastructure to allow completion of the full skills test. Drivers who receive a restricted CDL under the provisions of the current exemption would also be exempt from the Entry-Level Driver Training (ELDT) regulations. The State of Alaska currently holds an exemption for the period December 28, 2022, through December 30, 2024, and requests a five-year renewal of the exemption. FMCSA requests public comment on Alaska's request for exemption.

DATES: Comments must be received on or before July 18, 2024.

ADDRESSES: You may submit comments bearing the Federal Docket Management System (FDMS) Docket ID FMCSA-2022-0122 using any of the following methods:

• Federal eRulemaking Portal: www.regulations.gov. See the Public Participation and Request for Comments section below for further information.

• Mail: Docket Operations, U.S. Department of Transportation, 1200 New Jersey Avenue SE, West Building, Ground Floor, Washington, DC 20590-0001.

• Hand Delivery or Courier: West Building, Ground Floor, 1200 New Jersey Avenue SE, Washington, DC, between 9 a.m. and 5 p.m., ET, Monday through Friday, except Federal holidays.

• Fax: (202) 493-2251.

Each submission must include the Agency name and the docket number for this notice (FMCSA-2022-0122). Note that DOT posts all comments received without change to www.regulations.gov, including any personal information included in a comment. Please see the Privacy Act heading below.

Docket: For access to the docket to read background documents or comments, go to www.regulations.gov at any time on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov, as described in the system of records notice DOT/ALL-14 FDMS, which can be reviewed at https://www.transportation.gov/privacy. The comments are posted without edit and are searchable by the name of the submitter.

FOR FURTHER INFORMATION CONTACT: Mr. Richard Clemente, FMCSA Driver and Carrier Operations Division; Office of Carrier, Driver, and Vehicle Safety Standards; (202) 366-2722; richard.clemente@dot.gov. If you have questions on viewing or submitting material to the docket, contact Dockets Services, telephone (202) 366-9826.

SUPPLEMENTARY INFORMATION:

I. Public Participation and Request for Comments

FMCSA encourages you to participate by submitting comments and related materials.

Submitting Comments

If you submit a comment, please include the docket number for this notice (FMCSA-2022-0122), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2022-0122” in the “Keyword” box, and click “Search.” When the new screen appears, click on the “Comment” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including safety analyses submitted by the applicant. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 383.3(e), Alaska may waive certain knowledge and skills tests requirements and issue restricted CDLs. These restricted CDLs are valid only within the State and are subject to certain conditions. To be eligible for a restricted CDL, drivers must operate exclusively over roads that are not connected to the State highway system and are not connected to any highway or vehicular way with an average daily traffic volume greater than 499 (49 CFR 383.3(e)(2)). The Federal Highway Administration, FMCSA's predecessor agency, set the daily traffic volume limit at 499 in its grant of a request for a waiver in 1989 (54 FR 33230) and codified it in the FMCSRs in 1996 (61 FR 9546). Relatedly, the ELDT regulations set forth in 49 CFR 380, subparts F and G, establish minimum training standards for individuals applying for certain CDLs and define curriculum standards for theory and behind-the-wheel training. The ELDT curriculum in 49 CFR part 380, appendix A, section A3.1, requires Class A CDL applicants to demonstrate proficiency in proper techniques for initiating vehicle movement, executing left and right turns, changing lanes, navigating curves at speed, entry and exit on the interstate or controlled-access highway, and stopping the vehicle in a controlled manner. Under 49 CFR 380.603(a)(2), drivers issued a restricted CDL by the State of Alaska are exempt from the ELDT requirements.

Under the CDL regulations, before receiving a CDL from a State, a driver must pass a safe on-road driving test. Requisite skills include: the ability to adjust speed to various driving conditions (49 CFR 383.113(c)(4); and the ability to choose a safe gap when driving around other vehicles (49 CFR 383.113(c)(4)).

IV. Request for Exemption Renewal

On July 6, 2022, the Agency published a notice seeking comment on Alaska's request for an exemption from the portion of the ELDT curriculum that requires a Class A CDL applicant to demonstrate proficiency in proper techniques for initiating vehicle movement, executing left and right turns, changing lanes, navigating curves at speed, entry and exit on the interstate or controlled-access highway, and stopping the vehicle in a controlled manner (87 FR 40334). The application stated that compelling the State to comply with these requirements would “have devastating impacts on rural Alaska's movement of produce, prescriptions, people, and other goods.” According to the application, parts of rural Alaska do not fit the requirements for the restricted CDL in 49 CFR 383.3(e), since they contain roads with an average daily traffic volume that is greater than 499.

On December 28, 2022, after analyzing the application and public comments, the Agency published its decision (87 FR 79932). FMCSA opted not to grant the exemption from the ELDT curriculum in 49 CFR part 380, appendix A, section A3.1, as requested by the State, stating that under the requested exemption drivers, who had not received the full ELDT curriculum, would be eligible for CDLs that were unrestricted and valid outside of Alaska. Instead, FMCSA granted Alaska a two-year exemption from some of the conditions required under 49 CFR 383.3(e) for the issuance of a restricted CDL. The exemption allows the State to waive the portions of the CDL skills test enumerated in 49 CFR 383.113(c)(3) and (4) for drivers who reside in one of 14 defined geographic areas. These areas lack the infrastructure to allow completion of the full skills test. Drivers who receive a restricted CDL under the provisions of the exemption under this exemption may not operate outside of the 14 defined geographic areas. Also, under 49 CFR 380.603(a)(2), these drivers are not subject to the ELDT regulations. FMCSA concluded that granting the exemption, subject to the stated terms and conditions, was likely to achieve a level of safety equivalent to, or greater than, the level of safety that would be achieved absent the exemption.

Application for Renewal of Exemption

Citing the same reasons as the initial request, the State of Alaska has applied for a renewal of the current exemption for a period of five years.

V. Applicant's Method To Ensure an Equivalent or Greater Level of Safety

The applicant states that its commitment to safety remains unchanged and adds that it is not aware of any decline in safety during the current exemption. As required of the terms and conditions, the applicant provided to FMCSA a list of drivers that were issued a CDL under this exemption. The drivers' safety records as well as the comments received to this notice will be reviewed and analyzed by the Agency. A copy of the State of Alaska's application for renewal of its exemption is available for review in the docket for this notice.

IV. Request for Comments

In accordance with 49 U.S.C. 31315(b), FMCSA requests public comment from all interested persons on the State of Alaska's application for an extension of an exemption from some of the conditions required for the issuance of a restricted CDL. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-13325 Filed 6-17-24; 8:45 am]

BILLING CODE 4910-EX-P